DEPARTMENT OF COMMERCE

National Oceanic and Atmospheric Administration

RIN 0648-XB72

Marine Mammals; File No. 10018

AGENCY: National Marine Fisheries Service (NMFS), National Oceanic and Atmospheric Administration (NOAA), Commerce.

ACTION: Notice; receipt of application.

SUMMARY: Notice is hereby given that Dr. Rachel Cartwright, 5277 West Wooley Road, Oxnard, CA 93035, has applied in due form for a permit to conduct research on humpback whales (Megaptera novaeangliae).

DATES: Written, telefaxed, or e-mail comments must be received on or September 5, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10018.

FOR FURTHER INFORMATION CONTACT: Brandy Hutnak or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant seeks a five year permit to study the behavior and dynamics of humpback whale female and calf pairs in the waters off of Maui, Hawaii, including waters of the Hawaiian Islands Humpback Whale National Marine Sanctuary. Up to 540 takes for close vessel approach, photo-identification, focal follows, underwater observations, collection of sloughed skin, and incidental harassment are requested annually to test the hypotheses that behavior, dynamics and distribution of female/calf pairs varies between different stocks and may be influenced by abiotic factors such as aspects of bathymetry, water quality, and levels of vessel traffic. Incidental harassment of bottlenose dolphins (Tursiops truncatus), spinner dolphins (Stenella longirostris), pantropical spotted dolphins (Stenella attenuata), false killer whales (Pseudorca crassidens), and pilot whales (Globicephala sp.) is also requested. Concurrent with the publication of this notice in the Federal Register, NMFS is forwarding copies of this application to the Marine Mammal Commission and its Committee of Scientific Advisors.

Dated: August 1, 2007.
P. Michael Payne,
Chief, Permits, Conservation and Education Division, Office of Protected Resources, National Marine Fisheries Service.

[FR Doc. E7-15232 Filed 8-3-07; 8:45 am]

BILLING CODE 3510-22-S

>